SMALL BUSINESS ADMINISTRATION

Data Collection Available for Public Comments and Recommendations

ACTION: Notice and request for comments.

SUMMARY: In accordance with the Paperwork Reduction Act of 1995, this notice announces the Small Business Administration's intentions to request approval on a new, and/or currently approved information collection.

DATES: Submit comments on or before January 22, 2001.

ADDRESSES: Send all comments regarding whether this information collection is necessary for the proper performance of the function of the agency, whether the burden estimate is accurate, and if there are ways to minimize the estimated burden and enhance the quality of the collection, to Harriet Fredman, Deputy Assistant Administrator, Office of Women Business Ownership, Small Business Administration, 409 3rd Street, SW., Suite 4400.

FOR FURTHER INFORMATION CONTACT: Harriet Fredman, Deputy Assistant Administrator, 202-205-6673 or Curtis B. Rich, Management Analyst, (202) 205-7030.

SUPPLEMENTARY INFORMATION: Title: Mentoring Programs that work, Women's Network for Entrepreneurial Training (WNET).

Form No's: 2031, 2031A, 2031B, 2013C, 2031D, 2031E, 2031F, 2031G.

Description of Respondents: SBA's Women's Business Ownership Representatives.

Annual Responses: 10,000.

Annual Burden: 2,000.

ADDRESSES: Send all comments regarding whether these information collections are necessary for the proper performance of the function of the agency, whether the burden estimate is accurate, and if there are ways to minimize the estimated burden and enhance the quality of the collections, to Carol Fendler, System Accountant, Office of Investment Division, Small Business Administration, 409 3rd Street, SW., Suite 6300.

FOR FURTHER INFORMATION CONTACT: Carol Fendler, System Accountant, 202-205-7559 or Curtis B. Rich, Management Analyst, (202) 205-7030.

SUPPLEMENTARY INFORMATION: Title: Request for information concerning Portfolio Financing

Form No: 857.

Description of Respondents: SBIC Investment Companies.

Annual Responses: 2,160.

Annual Burden: 2,160.

Title: Financial Institution Confirmation Form.

Form No: 860.

Description of Respondents: SBIC Investment Companies

Annual Responses: 750.

Annual Burden: 750.

Jacqueline White,
Chief, Administrative Information Branch.

[FR Doc. 00-29825 Filed 11-20-00; 8:45 am]

BILLING CODE 8025-01-U